Proclamation 8949 of March 29, 2013

National Child Abuse Prevention Month, 2013

By the President of the United States of America

A Proclamation

America is a country where all of us should be able to pursue our own measure of happiness and live free from fear. But for the millions of children who have experienced abuse or neglect, it is a promise that goes tragically unfulfilled. National Child Abuse Prevention Month is a time to make their struggle our own and reaffirm a simple truth: that no matter the challenges we face, caring for our children must always be our first task.

Realizing that truth in our society means ensuring children know they are never alone—that they always have a place to go and there are always people on their side. Parents and caregivers play an essential part in giving their children that stability. But we also know that keeping our children safe is something we can only do together, with the help of friends and neighbors and the broader community. All of us bear a responsibility to look after them, whether by lifting children toward their full potential or lending a hand to a family in need.

Our Government shares in that obligation, which is why my Administration has made addressing child abuse a priority. Since I took office, we have advocated for responsible parenting and invested in programs that can give our sons and daughters a strong start in life. I was also proud to sign measures into law that equip State and local governments with the tools to take on abuse, like the CAPTA Reauthorization Act and the Violence Against Women Reauthorization Act.

Together, we are making important progress in stopping child abuse and neglect. But we cannot let up—not when children are still growing up looking for a lifeline, and not when more than half a million young people are robbed of their basic right to safety every year. So this month, let us stand up for them and make their voices heard. To learn more about ending child abuse and how to get involved, visit www.ChildWelfare.gov/Preventing.

NOW, THEREFORE, I, BARACK OBAMA, President of the United States of America, by virtue of the authority vested in me by the Constitution and the laws of the United States, do hereby proclaim April 2013 as National Child Abuse Prevention Month. I call upon all Americans to observe this month with programs and activities that help prevent child abuse and provide for children's physical, emotional, and developmental needs.

IN WITNESS WHEREOF, I have hereunto set my hand this twenty-ninth day of March, in the year of our Lord two thousand thirteen, and of the Independence of the United States of America the two hundred and thirty-seventh.

[FR Doc. 2013-07920

Filed 4-3-13; 8:45 am]

Billing code 3295-F3